DEPARTMENT OF THE INTERIOR

National Park Service

[NPS-AKRO-ANIA-DENA-CAKR-LACL-KOVA-WRST-GAAR-38082; PPAKAKROR4] [PPMPRLE1Y.LS0000]

Public Meetings of the National Park Service Alaska Region Subsistence Resource Commission Program

AGENCY: National Park Service, Interior.

ACTION: Meeting notice.

SUMMARY: The National Park Service (NPS) is hereby giving notice that the Aniakchak National Monument Subsistence Resource Commission (SRC), the Denali National Park SRC, the Cape Krusenstern National Monument SRC, the Lake Clark National Park SRC, the Kobuk Valley National Park SRC, the Wrangell-St. Elias National Park SRC, and the Gates of the Arctic National Park SRC will meet as indicated below.

DATES: The Aniakchak National Monument SRC will meet in-person and via videoconference from 10 a.m. to 1 p.m. or until business is completed on Monday, October 28, 2024. The alternate meeting date is Wednesday, November 6, 2024, from 10 a.m. to 1 p.m. or until business is completed at the same location and via videoconference. If an in-person meeting is not feasible or advisable, the meeting will be held solely by videoconference.

The Denali National Park SRC will meet in-person and via teleconference from 10 a.m. to 5 p.m. or until business is completed on both Wednesday, August 21, 2024, and Thursday, August 22, 2024. If business is completed on August 21, 2024, the meeting will adjourn, and no meeting will take place on August 22, 2024. The alternate meeting dates are Wednesday, August 28, 2024, and Thursday, August 29, 2024, from 10 a.m. to 5 p.m. or until business is completed at the same location and via teleconference. If an in-person meeting is not feasible or advisable, the meeting will be held solely by teleconference.

The Cape Krusenstern National Monument SRC will meet in-person and via teleconference from 1 p.m. to 5 p.m. on Monday, October 7, 2024, and from 9 a.m. to 12 p.m. on Tuesday, October 8, 2024, or until business is completed. If business is completed on October 7, 2024, the meeting will adjourn, and no meeting will take place on October 8, 2024. The alternate meeting dates are Monday, October 21, 2024, from 1 p.m. to 5 p.m., and Tuesday, October 22, 2024, from 9 a.m. to 12 p.m. or until business is completed at the same location in-person and via teleconference. If an in-person meeting is not feasible or advisable, the meeting will be held solely by teleconference.

The Lake Clark National Park SRC will meet in-person and via teleconference from 1 p.m. to 4 p.m. or until business is completed on Saturday, September 28, 2024. The alternate meeting date is Saturday, October 5, 2024, from 1 p.m. to 4 p.m. or until business is completed at the same location and via teleconference. If an in-person meeting is not feasible or advisable, the meeting will be held solely by teleconference.

The Kobuk Valley National Park SRC will meet in-person and via teleconference from 1 p.m. to 5 p.m. on Wednesday, October 9, 2024, and from 9 a.m. to 12 p.m. on Thursday, October 10, 2024, or until business is completed. If business is completed on October 9, 2024, the meeting will adjourn, and no meeting will take place on Thursday, October 10, 2024. The alternate meeting dates are Wednesday, October 23, 2024, from 1 p.m. to 5 p.m., and Thursday, October 24, 2024, from 9 a.m. to 12 p.m. or until business is completed at the same location and via teleconference. If an in-person meeting is not feasible or advisable, the meeting will be held solely by teleconference.

The Wrangell-St. Elias National Park SRC will meet in-person and via teleconference from 9 a.m. to 5 p.m. or until business is completed on both Monday, September 23, 2024, and Tuesday, September 24, 2024. If business is completed on September 23, 2024, the meeting will adjourn, and no meeting will take place on September 24, 2024. The alternate meeting dates are Friday, October 4, 2024, and Saturday, October 5, 2024, from 9 a.m. to 5 p.m., or until business is completed at the same location and via teleconference. If an in-person meeting is not feasible or advisable, the meeting will be held solely by teleconference.

The Gates of the Arctic National Park SRC will meet in-person and via teleconference from 9 a.m. to 5 p.m. or until business is completed on both Wednesday, November 13, 2024, and Thursday, November 14, 2024. If business is completed on November 13, 2024, the meeting will adjourn, and no meeting will take place on November 14, 2024. The alternate meeting dates are Wednesday, November 20, 2024, from 9 a.m. to 5 p.m., and Thursday, November 21, 2024, from 9 a.m. to 5 p.m. or until business is completed at the same location and via teleconference. If an in-person meeting is not feasible or advisable, the meeting will be held solely by teleconference.

ADDRESSES: The Aniakchak National Monument SRC will in-person meet at the Katmai National Park Office, 1001 Silver Street, King Salmon AK 99613 and via videoconference. Videoconference participants must call the NPS office at (907) 246-2121 prior to the meeting to receive videoconference passcode information.

For more detailed information regarding these meetings, or if you are interested in applying for SRC membership, contact Designated Federal Officer Mark Sturm, Superintendent, at (907) 246-2120 or via email at mark_sturm@nps.gov, or Jenya (Evguenia) Anichtchenko, Acting Cultural Resource Manager, at (907) 246-2154 or via email at evguenia_anichtchenko@nps.gov, or Eva Patton, Federal Advisory Committee Group Federal Officer, at (907) 644-3601 or via email at eva_patton@nps.gov.

The Denali National Park SRC will meet in-person at the Denali Totem Inn, 248.7 Milepost Parks Highway, Healy AK 99743 and via teleconference. Teleconference participants must call the NPS office at (907) 644-3604 prior to the meeting to receive teleconference passcode information. For more detailed information regarding these meetings, or if you are interested in applying for SRC membership, contact Designated Federal Officer Brooke Merrell, Superintendent, at (907) 683-9627 or via email at brooke_merrell@nps.gov, or Amy Craver, Subsistence Coordinator, at (907) 644-3604 or via email at amy_craver@nps.gov, or Eva Patton, Federal Advisory Committee Group Federal Officer, at (907) 644-3601 or via email at eva_patton@nps.gov.

The Cape Krusenstern National Monument SRC will meet in-person at the Northwest Arctic Heritage Center, 171 3rd Avenue, Kotzebue, AK 99752 and via teleconference. Teleconference participants must call the NPS office at (907) 442-8342 prior to the meeting to receive teleconference passcode information. For more detailed information regarding this meeting or if you are interested in applying for SRC membership, contact Designated Federal Officer Ray McPadden, Superintendent, at (907) 442-3890 or via email at raymond_mcpadden@nps.gov, or Emily Creek, Subsistence Coordinator, at (907) 442-8342 or via email at emily_creek@nps.gov, or Eva Patton, Federal Advisory Committee Group Federal Officer, at (907) 644-3601 or via email at eva_patton@nps.gov.

The Lake Clark National Park SRC will meet in-person at 1 Flight Line Road, Port Alsworth, AK 99653 and via teleconference. Teleconference participants must call the NPS office at (907) 644-3648 prior to the meeting to receive teleconference passcode information. For more detailed information regarding this meeting or if you are interested in applying for SRC membership, contact Designated Federal Officer Susanne Green, Superintendent, at (907) 644-3627 or via email at susanne_green@nps.gov, or Liza Rupp, Subsistence Manager, at (907) 644-3648 or via email at elizabeth_rupp@nps.gov, or Eva Patton, Federal Advisory Committee Group Federal Officer, at (907) 644-3601 or via email at eva_patton@nps.gov.

The Kobuk Valley National Park SRC will meet in-person at the Northwest Arctic Heritage Center, 171 3rd Avenue, Kotzebue, AK 99752 and via teleconference. Teleconference participants must call the NPS office at (907) 442-8342 prior to the meeting to receive teleconference passcode information. For more detailed information regarding this meeting or if you are interested in applying for SRC membership, contact Designated Federal Officer Ray McPadden, Superintendent, at (907) 442-3890 or via email at raymond_mcpadden@nps.gov, or Emily Creek, Subsistence Coordinator, at (907) 442-8342 or via email at emily_creek@nps.gov, or Eva Patton, Federal Advisory Committee Group Federal Officer, at (907) 644-3601 or via email at eva_patton@nps.gov.

The Wrangell-St. Elias National Park SRC will meet in-person at the Wrangell-St. Elias National Park and Preserve Visitor Center, Mile 106.8 Richardson Highway, Copper Center, AK 99573 and via teleconference. Teleconference participants must contact Subsistence Coordinator, Barbara Cellarius, at (907) 822-7236 or wrst_subsistence@nps.gov prior to the meeting to receive teleconference passcode information. For more detailed information regarding these meetings, or if you are interested in applying for SRC membership, contact Designated Federal Officer Ben Bobowski, Superintendent, at (907) 822-5234 or via email at ben_bobowski@nps.gov, or Barbara Cellarius, Subsistence Coordinator, at (907) 822-7236 or via email at barbara_cellarius@nps.gov, or Eva Patton, Federal Advisory Committee Group Federal Officer, at (907) 644-3601 or via email at eva_patton@nps.gov.

The Gates of the Arctic National Park SRC will meet in-person at the Sophie Station Hotel, Zach's Boardroom, 1717 University Avenue, Fairbanks, AK 99709 and via teleconference. Teleconference participants must call the NPS office at (907) 455-0639 prior to the meeting to receive teleconference passcode information. For more detailed information regarding this meeting or if you are interested in applying for SRC membership, contact Designated Federal Officer Mark Dowdle, Superintendent, at (907) 455-0614 or via email at mark_dowdle@nps.gov, or Marcy Okada, Subsistence Coordinator, at (907) 455-0639 or via email at marcy_okada@nps.gov, or Eva Patton, Federal Advisory Committee Group Federal Officer, at (907) 644-3601 or via email at eva_patton@nps.gov.

SUPPLEMENTARY INFORMATION: The NPS is holding meetings pursuant to the Federal Advisory Committee Act, as amended (5 U.S.C. ch. 10). The NPS SRC program is authorized under title VIII, section 808 of the Alaska National Interest Lands Conservation Act (16 U.S.C. 3118).

SRC meetings are open to the public and will have time allocated for public testimony. The public is welcome to present written or oral comments to the SRC. SRC meetings will be recorded and detailed meeting minutes will be available upon request from the Superintendent for public inspection within 90 days of the meeting.

Request for Accommodations: The meetings are open to the public. Please make requests in advance for sign language interpreter services, assistive listening devices, language translation services, or other reasonable accommodations. We ask that you contact the person listed in the (see ADDRESSES) section of this notice at least seven (7) business days prior to the meeting to give the Department of the Interior sufficient time to process your request. All reasonable accommodation requests are managed on a case-by-case basis. Individuals in the United States who are deaf, deafblind, hard of hearing, or have a speech disability may dial 711 (TTY, TDD, or TeleBraille) to access telecommunications relay services. Individuals outside the United States should use the relay services offered within their country to make international calls to the point-of-contact in the United States.

Purpose of the Meeting: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Staff Reports

a. Superintendent/Ranger Reports

b. Resource Manager's Report

c. Subsistence Manager's Report

14. Public and Other Agency Comments

15. Work Session

16. Set Tentative Date and Location for Next SRC Meeting

17. Adjourn Meeting

SRC meeting location and date may change based on inclement weather or exceptional circumstances, including public health advisories or mandates. If the meeting date and location are changed, the Superintendent will issue a press release and use local newspapers and/or radio stations to announce the rescheduled meeting.

Public Disclosure of Comments: Before including your address, phone number, email address, or other personal identifying information in your comment, you should be aware that your entire comment-including your personal identifying information-may be made publicly available at any time. While you can ask us in your comment to withhold your personal identifying information from public review, we cannot guarantee that we will be able to do so.

Authority: 5 U.S.C. ch. 10.

Alma Ripps,
Chief, Office of Policy.

[FR Doc. 2024-17132 Filed 8-1-24; 8:45 am]

BILLING CODE 4312-52-P